FEDERAL COMMUNICATIONS COMMISSION

[IB Docket No. 16-185; DA 20-300]

Announcement of Re-Chartering for the Advisory Committee for the World Radio Conference

AGENCY: Federal Communications Commission.

ACTION: Notice.

SUMMARY: In accordance with the Federal Advisory Committee Act, the Federal Communications Commission announces that the charter for the Advisory Committee for the World Radio Conference (WRC Advisory Committee) has been renewed by the General Services Administration (GSA) for a two-year period. The WRC Advisory Committee is a federal advisory committee under the Federal Advisory Committee Act.

DATES: Renewed for two years, starting April 2, 2020.

ADDRESSES: Federal Communications Commission, 445 12th Street SW, Room TW-C305, Washington, DC 20554.

FOR FURTHER INFORMATION CONTACT: Dante Ibarra, Designated Federal Officer (DFO), WRC Advisory Committee, FCC International Bureau, Global Strategy and Negotiations Division, at (202) 418-0610. Email: dante.ibarra@fcc.gov.

SUPPLEMENTARY INFORMATION: In accordance with the Federal Advisory Committee Act, Public Law 92-463, as amended, this notice advises interested persons that the GSA renewed the charter of the WRC Advisory Committee for two years, commencing April 2, 2020. Its scope of activities is to address issues contained in the agenda for the 2023 World Radio Conference (WRC-23). The WRC-23 Advisory Committee will continue to provide to the FCC advice, data, and technical analyses, and will formulate recommendations relating to the preparation of U.S. proposals and positions for WRC-23.

Federal Communications Commission.
Troy Tanner,
Deputy Chief, International Bureau.

[FR Doc. 2020-06808 Filed 3-31-20; 8:45 am]

BILLING CODE 6712-01-P